SMALL BUSINESS ADMINISTRATION

[Disaster Declaration # 10274]

North Dakota Disaster # ND-00004

AGENCY: U.S. Small Business Administration.

ACTION: Amendment 1.

SUMMARY: This is an amendment of the Presidential declaration of a major disaster for Public Assistance Only for the State of North Dakota (FEMA-1616-DR), dated 11/21/2005.

Incident: Severe Winter Storm and Record and Near-Record Snow.

Incident Period: 10/04/2005 through 10/06/2005.

Effective Date: 01/13/2006.

Physical Loan Application Deadline Date: 01/23/2006.

ADDRESSES: Submit completed loan applications to: U.S. Small Business Administration, National Processing and Disbursement Center, 14925 Kingsport Road, Fort Worth, TX 76155.

FOR FURTHER INFORMATION CONTACT: A. Escobar, Office of Disaster Assistance, U.S. Small Business Administration, 409 3rd Street, SW., Suite 6050, Washington, DC 20416.

SUPPLEMENTARY INFORMATION: The notice of the President's major disaster declaration for Private Non-Profit organizations in the State of North Dakota, dated 11/21/2005, is hereby amended to include the following areas as adversely affected by the disaster.

Primary County:

Slope.

All other information in the original declaration remains unchanged.

(Catalog of Federal Domestic Assistance Number 59008)

Bridget M. Dusenbury,
Acting Associate Administrator for Disaster Assistance.

[FR Doc. E6-878 Filed 1-24-06; 8:45 am]

BILLING CODE 8025-01-P